DEPARTMENT OF STATE

[Public Notice 4268]

Overseas Buildings Operations; Industry Advisory Panel Meeting Notice

The Industry Advisory Panel of Overseas Buildings Operations will meet on Thursday, March 27, 2003 from 9:45 until 11:45 a.m. and 1 until 3:30 p.m. Eastern Standard Time. The meeting will be held in conference room 1105 at the Department of State, 2201 C Street NW., (entrance on 23rd Street), Washington, DC. The purpose of the meeting is to discuss new technologies and successful management practices for design, construction, security, property management, emergency operations, the environment, and planning and development. An agenda will be available prior to the meeting.

The meeting will be open to the public, however, seating is limited. Prior notification and a valid photo ID are mandatory for entry into the building. Members of the public who plan to attend must notify Luigina Pinzino at 703/875-7109 before Wednesday, March 12th, to provide date of birth, Social Security number, and telephone number.

FOR FURTHER INFORMATION CONTACT: Luigina Pinzino 703/875-7109.

Dated: February 20, 2003.
Charles E. Williams,
Director/Chief Operating Officer, Overseas Buildings Operations, Department of State.

[FR Doc. 03-4908 Filed 2-28-03; 8:45 am]

BILLING CODE 4710-24-P